DEPARTMENT OF HOMELAND SECURITY

[DHS-2015-0051]

Homeland Security Information Network Advisory Committee; Meeting

AGENCY: Information Sharing Environment (ISEO)/Office of Chief Information Officer (OCIO), Department of Homeland Security.

ACTION: Committee management; notice of Federal Advisory Committee meeting.

SUMMARY: The Homeland Security Information Network Advisory Council (HSINAC) calls a full body, in-person meeting of its membership to receive all relevant information and facilitate development of recommendations to the HSIN Program Management Office (PMO) in the major issue area of developing Focused Mission Growth outcome measures.

DATES: The HSINAC will meet Monday, September 28, 2015 from 9 a.m.-5 p.m. EST and Tuesday, September 29, 2015 from 9 a.m.-12 p.m. in Washington, DC, and via conference call and HSIN Connect, an online web-conferencing tool, both of which will be made available to members of the general public. Please note that the meeting may end early if the committee has completed its business.

ADDRESSES: The meeting will be held in Washington, DC at 131 M. Street NE., 6th floor Conference Room and virtually via HSIN Connect, an online web-conferencing tool at https://share.dhs.gov/hsinac, and available via teleconference at 888-917-8048 Conference Pin: 1648049 for all public audience members. To access the web conferencing tool, go to https://share.dhs.gov/hsinac, click on “enter as a guest,” type in your name as a guest, and click “submit.” The teleconference lines will be open for the public and the meeting brief will be posted beforehand on the Federal Register site (https://www.federalregister.gov/). If the Federal government is closed, the meeting will be rescheduled.

For information on facilities or services for individuals with disabilities or to request special assistance at the meeting, contact Allison Buchinski, allison.buchinski@associates.dhs.gov, 202-343-4277, as soon as possible.

To facilitate public participation, we are inviting public comment on the issues to be considered by the committee. Comments must be submitted in writing no later than September 18, must be identified by the docket number—DHS-2015-0051, and may be submitted by one of the following methods:

• Federal eRulemaking Portal: http://www.regulations.gov. Follow the instructions for submitting comments.

• Email: Allison Buchinski, allison.buchinski@associates.hq.dhs.gov. Also include the docket number in the subject line of the message.

• Fax: 202-447-3111.

• Mail: Allison Buchinski, Department of Homeland Security, OPS CIO-D Stop 0426, 245 Murray Lane SW., BLDG 410, Washington, DC 20528-0426.

Instructions: All submissions received must include the words “Department of Homeland Security” and the docket number (DHS-2015-0051) for this action. Comments received will be posted without alteration at http://www.regulations.gov, including any personal information provided.

Docket: For access to the docket to read background documents or comments received by the HSINAC go to http://www.regulations.gov and type the docket number of DHS-2015-0051 into the “search” field at the top right of the Web site.

A public comment period will be held during the meeting on Monday, September 28, from 4:30 p.m. to 4:45 p.m. and again on Tuesday, September 29, from 11:00 a.m. to 11:15 a.m. Speakers are requested to limit their comments to 3 minutes. Please note that the public comment period may end before the time indicated, following the last call for comments. Contact one of the individuals listed below to register as a speaker.

FOR FURTHER INFORMATION CONTACT: Designated Federal Officer, Michael Brody, Michael.brody@hq.dhs.gov, and Phone: 202-282-9464.

SUPPLEMENTARY INFORMATION: The Homeland Security Information Network Advisory Committee (HSINAC) is an advisory body to the Homeland Security Information Network (HSIN) Program Office. This committee provides advice and recommendations to the U.S. Department of Homeland Security (DHS) on matters relating to HSIN. These matters include system requirements, operating policies, community organization, knowledge management, interoperability and federation with other systems, and any other aspect of HSIN that supports the operations of DHS and its Federal, state, territorial, local, tribal, international, and private sector mission partners. Notice of this meeting is given under the Federal Advisory Committee Act, 5 U.S.C. Appendix. The HSINAC provides advice and recommendations to DHS on matters relating to HSIN.

Agenda

The Agenda will have three major components. The first, Program Updates, will provide the HSINAC with information necessary to discuss and develop recommendations on specific advice related to the critical mission areas in which HSIN achieves growth in its user base and/or mission application, and how mission can establish a clear, reusable set of mission based outcome measures which will adequately convey the actual mission impact that HSIN has in homeland security operations. The second, Recommendations Development, will involve the deliberation by the HSINAC on the major issue area of defining Focused Mission Growth outcome measures to assist the Program in defining user success moving forward.

1. HSIN Program Update

a. HSINAC Members receive HSIN PMO updates on the following key issues, and offer critical feedback, guidance, and initial formulation of recommendations for future program enhancements:

i. An Introduction to the Information Sharing Environment Office (ISEO)—Members are provided an overview of the office and HSIN's recent alignment with ISEO and OCIO.

ii. The State of HSIN—Members are provided a strategic update on HSIN's progresses, challenges, and future plans.

iii. Focused Mission Growth—Members will hear about the Program's goals to enhance the quality of the HSIN user experience while adding mission value through a feedback session with the group.

iv. HSIN Annual Assessment—Members are given an overview of the HSIN Annual Report process and partake in a short focus group session to assist in the development of partner-focused success stories illustrating HSIN's role in fulfilling its mission to be the central provider of information sharing capabilities that allow for collaboration, situational awareness, and information exchange to fulfill our partner's homeland security mission areas.

2. Recommendations Development

a. Mission Focused Outcomes—Members will partake in a session to ensure that HSIN's operation and support is aligned with mission events, major incidents, and issues, assisting the HSIN Program with defining its mission based outcome measures.

3. Public Comment Period on Both Days

4. Closing Remarks

5. Adjournment of the Meeting

Dated: August 19, 2015.
Donna Roy,
Executive Director, Information Sharing Environment Office.
James Lanoue,
HSIN Program Director.

[FR Doc. 2015-20945 Filed 8-24-15; 8:45 am]

BILLING CODE 9110-9B-P